DEPARTMENT OF COMMERCE

National Oceanic and Atmospheric Administration

[I.D. 102705A]

Marine Mammals; File No. 774-1649-03

AGENCY: National Marine Fisheries Service (NMFS), National Oceanic and Atmospheric Administration (NOAA), Commerce.

ACTION: Issuance of permit amendment.

SUMMARY: Notice is hereby given that Permit No. 774-1649-02 issued to the Southwest Fisheries Science Center, National Marine Fisheries Service, 8604 La Jolla Shores Drive, La Jolla, California 92038 (Principle Investigator: Rennie Holt, Ph.D.) has been amended.

ADDRESSES: The permit and related documents are available for review upon written request or by appointment in the following office(s):

Permits and Documentation Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018;

FOR FURTHER INFORMATION CONTACT: Ruth Johnson or Tammy Adams (301)713-2289.

SUPPLEMENTARY INFORMATION: On October 3, 2005, notice was published in the Federal Register (70 FR 57566) that an amendment of Permit No. 774-1649-02 had been requested by the above-named organization. The requested amendment has been granted under authority of the Marine Mammal Protection Act of 1972, as amended (16 U.S.C. 1361 et seq.), and the Regulations Governing the Taking and Importing of Marine Mammals (50 CFR part 216).

The amended permit authorizes the Holder to administer isotopes (doubly-labeled water (DLW)) to and collect serial blood samples from up to 15 Antarctic fur seal (Arctocephalus gazelle) females and 30 pups to study female/pup energetics and maternal investment.

Dated: November 21, 2005.
Stephen L. Leathery,
Chief, Permits, Conservation and Education Division, Office of Protected Resources, National Marine Fisheries Service.

[FR Doc. 05-23288 Filed 11-23-05; 8:45 am]

BILLING CODE 3510-22-S